SECURITIES AND EXCHANGE COMMISSION

Sunshine Act Meetings

FEDERAL REGISTER CITATION OF PREVIOUS ANNOUNCEMENT: 83 FR 64630, 17 December 2018.

PREVIOUSLY ANNOUNCED TIME AND DATE OF THE MEETING: Wednesday, December 19, 2018 at 10:00 a.m.

CHANGES IN THE MEETING: The following item will not be considered during the Open Meeting on Wednesday, December 19, 2018:

• Whether to adopt rules to implement Section 955 of the Dodd-Frank Wall Street Reform and Consumer Protection Act by requiring disclosure about the ability of a company's employees or directors to hedge or offset any decrease in the market value of equity securities granted as compensation to, or held directly or indirectly by, an employee or director.

CONTACT PERSON FOR MORE INFORMATION: For further information and to ascertain what, if any, matters have been added, deleted or postponed, please contact the Office of the Secretary at (202) 551-5400.

Dated: December 18, 2018.
Brent J. Fields,
Secretary.

[FR Doc. 2018-27829 Filed 12-19-18; 11:15 am]

BILLING CODE 8011-01-P